ENVIRONMENTAL PROTECTION AGENCY

40 CFR Part 52

[EPA-R08-OAR-2005-UT-0001; UT-001-0052a; EPA-R08-OAR-2006-0564; EPA-R08-OAR-2005-UT-0006; FRL-8300-1]

Approval and Promulgation of Air Quality Implementation Plans; State of Utah; State Implementation Plan Corrections

AGENCY: Environmental Protection Agency (EPA).

ACTION: Final rule; technical corrections.

SUMMARY: When EPA approved Utah's Rule Recodification on February 14, 2006, we inadvertently incorporated by reference rules into the State Implementation Plan (SIP). When EPA approved Utah's Continuous Emission Monitoring Program on May 15, 2003, we inadvertently failed to remove the older version of the Continuous Emission Monitoring Program rule from the SIP. When EPA approved Revisions to the Utah Administrative Code on November 1, 2006, we inadvertently incorporated by reference incorrect state rules. Finally, when EPA approved Carbon Monoxide provisions for Provo, we inadvertently failed to remove the older version of Control Measures For Area and Point Sources—Carbon Monoxide—Provo. EPA is correcting these errors with this document.

DATES: This rule is effective on May 18, 2007.

FOR FURTHER INFORMATION CONTACT: Kerri Fiedler, Air and Radiation Program, Environmental Protection Agency (EPA), Region 8, Mailcode 8P-AR, 1595 Wynkoop Street, Denver, Colorado 80202-1129, phone (303) 312-6493, and e-mail at: fiedler.kerri@epa.gov.

SUPPLEMENTARY INFORMATION:

Table of Contents

I. Correction

a. Rule Recodification

b. Continuous Emission Monitoring Program

c. Revisions to the Utah Administrative Code

d. Carbon Monoxide Provisions for Provo

II. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The word State means the State of Utah, unless the context indicates otherwise.

Section 553 of the Administrative Procedures Act, 5 U.S.C. 553(b)(B) and (d)(3), provides that, when an agency for good cause finds that notice and public procedures are impracticable, unnecessary or contrary to the public interest, the agency may issue a rule without providing notice and an opportunity for public comments. Section 553(d)(3) provides that prior notice is not required with good cause. We have determined that there is good cause for making today's rule final without prior proposal and opportunity for comment because we are merely correcting incorrect text in previous rulemakings. Thus, notice and public comment procedures are unnecessary. We find that this constitutes good cause under 5 U.S.C. 553(b)(B) and (d)(3).

I. Correction

a. Rule Recodification

On November 2, 2005 (70 FR 66264), EPA approved the removal of Rule R307-301 from the Federally-approved SIP as part of Utah's Redesignation of Provo to Attainment of the Carbon Monoxide standard. When EPA approved Utah's Rule Recodification on February 14, 2006 (71 FR 7679), Rules R307-301-1, R307-301-2, and R307-301-4 through R307-301-14 were inadvertently incorporated by reference back into Utah's federally-approved SIP. This corrections rule simply removes the following from 40 CFR 52.2320(c)(59)(i)(A): “R307-301-1, R307-301-2, and R307-301-4 through R307-301-14 effective November 12, 1998.”

Furthermore, on February 14, 2006 (71 FR 7679), EPA inadvertently incorporated by reference Rule R307-302-2(4). In the proposed rule on October 13, 2005 (70 FR 59681), page 59684 clearly states EPA is approving Rule R307-302 with the exception of rule section R307-302-2(4). Currently 40 CFR 52.2320(c)(59)(i)(A) contains the following phrase: “R307-302-1, R307-302-2 and R307-302-4 effective September 15, 1998.” This corrections rule simply revises the phrase to read as follows: “R307-302-1, R302-302-2 (except paragraph (4)) and R307-302-4 effective September 15, 1998.”

b. Continuous Emission Monitoring Program

On December 14, 1994 (59 FR 64326), EPA approved Rule R307-1-4.06, “Continuous Emission Monitoring Systems Program (CEMSP).” When EPA approved a revision to Utah's Continuous Emission Monitoring Program (CEM), Rule R307-170 on May 15, 2003 (68 FR 26210), Rule R307-1-4.06 was superseded and replaced but was not removed from Utah's federally-approved SIP. This action simply removes Rule R307-1-4.06 from Utah's federally-approved SIP.

c. Revisions to the Utah Administrative Code

On November 1, 2006 (71 FR 64125), EPA approved changes to Rules R307-170-7(1); R307-170-4; R307-170-5(7); R307-170-7(6), R307-170-7(6)(a) and (b); and R307-170-9 sections (5)(a) and (b), (6)(b), (7)(b), and (9)(a). There is a typographical error and Rule R307-170-9(5)(b) should have been Rule R307-170-9(5)(d), which removes a duplicate “and” from Utah's rule. In addition, revisions to Rules R307-170-5(1)(b) and R307-170-9(7)(a)(i) should have been included in the November 1, 2006 approval. Rule R307-170-5(1)(b) deletes an “a” and adds an “A”. Rule R307-170-9(7)(a)(i) deletes a space and adds a dash (“-”). Currently 40 CFR 52.2320(c)(64)(i)(A) reads: “Utah Administrative Code sections: R307-170-7(1); 307-170-4; R307-170-5(7); R307-170-7(6); R307-170-7(6)(a) and (b); and in R307-170-9 sections (5)(a) and (b), (6)(b), (7)(b), and (9)(a); effective January 5, 2006.” This action simply corrects 40 CFR 52.2320(c)(64)(i)(A) to read as follows: “Utah Administrative Code sections: R307-170-7(1); 307-170-4; R307-170-5(1)(b); R307-170-5(7); R307-170-7(6); R307-170-7(6)(a) and (b); and in R307-170-9 sections (5)(a) and (d), (6)(b), (7)(a)(i), (7)(b), and (9)(a); effective January 5, 2006.”

d. Carbon Monoxide Provisions for Provo

On June 25, 2003 (68 FR 37744), EPA approved Utah SIP Control Measures for Area and Point Sources—Carbon Monoxide—Provo—Section IX.C.6. When EPA approved Section IX.C.6—Carbon Monoxide Provisions for Provo on November 2, 2005 (70 FR 66264) EPA inadvertently failed to remove the older SIP Section IX.C.6 from Utah's federally-approved SIP. This action simply removes the June 25, 2003 approved version of Utah SIP Control Measures for Area and Point Sources—Carbon Monoxide—Provo—Section IX.C.6 from Utah's federally-approved SIP because it has been replaced by a newer version.

II. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). Because the agency has made a “good cause” finding that this action is not subject to notice-and-comment requirements under the Administrative Procedure Act or any other statute as indicated in the Supplementary Information section above, it is not subject to the provisions of the Regulatory Flexibility Act (5 U.S.C. 601 et seq.), or to sections 202 and 205 of the Unfunded Mandates Reform Act of 1995 (UMRA) (Pub. L. 104-4, 209 Stat. 48 (1995)). In addition, this action does not significantly or uniquely affect small governments or impose a significant intergovernmental mandate, as described in sections 203 and 204 of UMRA.

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This rule also is not subject to Executive Order 13045 “Protection of Children from Environmental Health Risks and Safety Risks” (62 FR 19885, April 23, 1997), because it approves a state rule implementing a Federal Standard.

This technical correction action does not involve technical standards; thus the requirements of section 12(d) of the National Technology Transfer and Advancement Act of 1995 (15 U.S.C. 272 note) do not apply. This rule also does not involve special consideration of environmental justice related issues as required by Executive Order 12898 (59 FR 7629, February 16, 1994). In issuing this rule, EPA has taken necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issues under the Executive Order. This ruled does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public comment procedures are impracticable, unnecessary or contrary to the public interest. This determination must be supported by a brief statement, 5 U.S.C. 808(2). As stated previously, EPA has made such a good cause finding, including the reasons therefore, and established an effective date of May 18, 2007. EPA will submit a report containing this rule and other required information to the U.S. Senate, the U.S. House of Representatives, and the Comptroller General of the United States prior to publication of the rule in the Federal Register. These corrections to the identification of plan for Utah are not a “major rule” as defined by 5 U.S.C. 804(2).

List of Subjects in 40 CFR Part 52

Environmental protection, Air pollution control, Carbon monoxide, Incorporation by reference, Intergovernmental relations, Reporting and recordkeeping requirements.

Dated: April 9, 2007.
Kerrigan G. Clough,
Acting Regional Administrator, Region VIII.

Chapter I, title 40 of the Code of Federal Regulations is amended as follows:

PART 52—[AMENDED]

1. The authority citation for part 52 continues to read as follows:

Authority: 42 U.S.C. 7401 et seq.

Subpart TT—UTAH

2. Section 52.2320 is amended as follows:

a. In paragraph (c)(59)(i)(A) by removing the phrase “R307-301-1, R307-301-2, and R307-301-4 through R307-301-14 effective November 12, 1998;” and by revising the phrase that reads “R307-302-1, R307-302-2 and R307-302-4 effective September 15, 1998” to read “R307-302-1, R302-302-2 (except paragraph (4)) and R307-302-4 effective September 15, 1998.”

b. By revising paragraph (c)(64)(i)(A) as follows:

§ 52.2320 Identification of plan.

* * * * *

(c) * * *

(64) * * *

(i) * * *

(A) Utah Administrative Code sections: R307-170-7(1); 307-170-4; R307-170-5(1)(b); R307-170-5(7); R307-170-7(6); R307-170-7(6)(a) and (b); and in R307-170-9 sections (5)(a) and (d), (6)(b), (7)(a)(i), (7)(b), and (9)(a); effective January 5, 2006.

3. Section 52.2352 is amended by adding paragraph (f) to read as follows:

§ 52.2352 Change to approved plan.

* * * * *

(f) Utah Administrative Code (UAC) rule R307-1-4.06, Continuous Emission Monitoring Systems Program (CEMSP), is removed from Utah's approved State Implementation Plan (SIP). This rule has been superseded and replaced by rule R307-170, Continuous Emission Monitoring Program.

[FR Doc. E7-7201 Filed 4-17-07; 8:45 am]

BILLING CODE 6560-50-P